DEPARTMENT OF COMMERCE

National Oceanic and Atmospheric Administration

[I.D. 041307C]

Endangered and Threatened Species; Recovery Plans

AGENCY: National Marine Fisheries Service (NMFS), National Oceanic and Atmospheric Administration, Commerce.

ACTION: Notice of availability; request for comments.

SUMMARY: NMFS announces the availability of the Draft Revised Recovery Plan ( Draft Revised Plan), dated May 2007, for the western and eastern distinct population segments (DPS) of Steller sea lion (Eumetopias jubatus). NMFS is soliciting review and comment on the Draft Revised Plan from all interested parties. Due to continued and substantial public interest in the recovery plan to-date, NMFS is releasing an updated version of the Draft Revised Plan for additional review and written comments.

DATES: Comments on the Draft Revised Plan must be received by close of business on August 20, 2007.

ADDRESSES: Send comments to Kaja Brix, Assistant Regional Administrator, Protected Resources Division, Alaska Region, NMFS, Attn: Ellen Walsh. Comments may be submitted by:

• E-mail: SSLRP@noaa.gov. Include in the subject line the following document identifier: Sea Lion Recovery Plan. E-mail comments, with or without attachments, are limited to 5 megabytes.

• Mail: P.O. Box 21668, Juneau, AK 99802.

• Hand delivery to the Federal Building: 709 West 9th Street, Juneau, AK.

• Fax: (907) 586 7012.

Interested persons may obtain the Draft Revised Plan for review from the above address or online from the NMFS Alaska Region website: http://www.fakr.noaa.gov/.

FOR FURTHER INFORMATION CONTACT: Kaja Brix, (907 586 7235), e-mail kaja.brix@noaa.gov.

SUPPLEMENTARY INFORMATION:

Background

Recovery plans are guidance documents that describe the actions considered necessary for the conservation and recovery of species listed under the Endangered Species Act (ESA) of 1973, as amended (16 U.S.C. 1531 et seq.). Development and implementation of a recovery plan helps to ensure that recovery efforts utilize limited resources effectively and efficiently. The ESA requires the development of recovery plans for listed species, unless such a plan would not promote the recovery of a particular species. The ESA requires that recovery plans incorporate the following: (1) Objective, measurable criteria that, when met, would result in a determination that the species is no longer threatened or endangered; (2) site-specific management actions necessary to achieve the plan's goals; and (3) estimates of the time and costs required to implement recovery actions. NMFS will consider all substantive comments and information presented during the public comment period prior to finalizing the Steller Sea Lion Recovery Plan.

NMFS' goal is to restore endangered and threatened Steller sea lion (Eumetopias jubatus) populations to levels at which they are secure, self-sustaining components of their ecosystems and no longer require the protections of the ESA. The Steller sea lion was listed as a threatened species under the ESA on April 5, 1990 (55 FR 12645), due to substantial declines in the western portion of the range. Critical habitat was designated on August 27, 1993 (58 FR 45269), based on the locations of terrestrial rookeries and haulouts, the spatial extent of foraging trips, and availability of prey. In 1997, Steller sea lions were reclassified as two DPSs under the ESA, a western DPS and an eastern DPS, based on demographic and genetic dissimilarities (62 FR 24345, 62 FR 30772). Due to a persistent population decline, the western DPS was reclassified as endangered at that time. The increasing eastern DPS remained classified as threatened. Through the 1990s, the western DPS continued to decline. Then between 2000 and 2004, the western population showed a growth rate of approximately three percent per year — the first recorded increase in the population since the 1970s. Based on recent counts, the western DPS is currently about 44,800 animals. The eastern DPS is currently between 45,000 and 51,000 animals and has been increasing at a rate of approximately three percent per year for 30 years.

The first Steller sea lion recovery plan was completed in December 1992 and encompassed the entire range of the species. However, the recovery plan became obsolete after the split into two DPSs in 1997. By that time, nearly all of the recovery actions recommended in the original plan were completed. In 2001, NMFS assembled a new recovery team to update the plan. The team was comprised of members representing marine mammal and fishery scientists, the fishing industry, Alaska Natives, and environmental organizations. The recovery team completed a draft revision in February 2006, then solicited peer review on the draft recovery plan in accordance with NMFS' 1994 peer review policy. The team requested review from five scientists and managers with expertise in recovery planning, statistical analyses, fisheries, and marine mammals. In response to reviewers' comments, the team clarified the recovery criteria, added delisting criteria for the western DPS, and further refined priorities and recovery actions. In March 2006, the Team submitted the revised plan to NOAA Fisheries with unanimous endorsement from the 17 Team members.

In May 2006, NMFS released the draft Steller Sea Lion Recovery Plan for public review and comment (71 FR 29919). On July 20, 2006, NMFS extended the customary 60-day comment period until September 1, 2006 (71 FR 41206) to provide additional time for public review and comments. NMFS received comments from 18 individuals and organizations during the 100-day comment period. We reviewed these comments and incorporated recommendations into the Draft Revised Plan. A summary of public comments and NMFS' formal response to these comments are available online at http://www.fakr.noaa.gov/.

Due to extensive public interest and the controversial nature of this recovery plan, NMFS is releasing the Draft Revised Plan for another round of public reviews and comments. This will provide the public an opportunity to review changes made based on earlier public input and to provide further comments prior to release of the final Steller Sea Lion Recovery Plan.

Overview

The Draft Revised Plan contains: (1) A comprehensive review of Steller sea lion ecology, (2) a review of previous conservation actions, (3) a threats assessment, (4) biological and recovery criteria for downlisting and delisting, (4) actions necessary for the recovery of the species, and (5) estimates of time and costs for recovery.

The threats assessment concludes that the following threats to the western DPS are relatively minor: Alaska Native subsistence harvest, illegal shooting, entanglement in marine debris, disease, and disturbance from vessel traffic and scientific research. Although much has been learned about Steller sea lions and the North Pacific ecosystem, considerable uncertainty remains about the magnitude and likelihood of the following potential threats (relative impacts in parenthesis): competition with fisheries (potentially high), environmental variability (potentially high), killer whale predation (medium), incidental take by fisheries (low), and toxic substances (medium). In contrast, no threats were identified for the eastern DPS. Although several factors that affect the western DPS also affect the eastern DPS (e.g., environmental variability, killer whale predation, toxic substances, disturbance), these threats do not appear to be limiting recovery of the population at this time.

The Draft Revised Plan identifies an array of substantive actions that will foster recovery of the western DPS by addressing the broad range of threats. It highlights three actions (detailed below) that are especially important to the recovery program for the western DPS:

1. Maintain current fishery conservation measures: After a long-term decline, the western DPS appears to be stabilizing. The first slowing of the decline began in the 1990s, which suggests that management measures implemented in the early 1990s may have been effective in reducing anthropogenic effects (e.g., shooting, harassment, and incidental take). The apparent population stability observed in the last six years appears to be correlated with comprehensive fishery management measures implemented since the late 1990s. Therefore, the current suite of management actions (or their equivalent protection) should be maintained until substantive evidence demonstrates that these measures can be altered without inhibiting recovery.

2. Design and implement an adaptive management program to evaluate fishery conservation measures: A scientifically rigorous adaptive management program should be developed and implemented. A well-designed adaptive management plan has the potential to assess the relative impact of commercial fisheries on Steller sea lions and distinguish the impacts of fisheries from other threats (including killer whale predation). This program will require a robust experimental design with replication at appropriate temporal and spatial scales. It will be a challenge to construct an adaptive management plan that is statistically sound, meets the requirements of the ESA and can be implemented in a practicable manner.

3. Continue population monitoring and research on the key threats potentially impeding sea lion recovery: Estimates of population abundance and trends, spatial distribution, health, and essential habitat characteristics are fundamental to Steller sea lion management and recovery. Current knowledge of the effects of primary threats on these parameters is insufficient to determine their relative impacts on species recovery. Focused research is needed to assess the effects of threats on sea lion population dynamics and identify suitable mitigation measures.

Criteria for reclassification of the eastern DPS and western DPS of Steller sea lion are included in the Draft Revised Plan. In summary, the western DPS of Steller sea lion may be reclassified from endangered to threatened status when all of the following have been met: (1) Counts of non-pups in the U.S. portion of the DPS have increased for 15 years (on average); (2) the population ecology and vital rates in the U.S. region are consistent with the observed trend; (3) the non-pup trends in at least five of the seven sub-regions are consistent with the overall U.S. trend, and the population trend in any two adjacent sub-regions can not be declining significantly; and (4) all five listing factors [as described in section 4(a)(1) of the ESA] are addressed.

The western DPS of Steller sea lion may be delisted when all of the following conditions have been met: (1) Counts of non-pups in the U.S. portion of the DPS have increased at an average annual rate of three percent for 30 years (i.e., 3 generations); (2) the population ecology and vital rates in the U.S. region are consistent with the observed trend; (3) the non-pup trends in at least five of the seven sub-regions are consistent with the overall U.S. trend, the population trend in any two adjacent sub-regions can not be declining significantly, and the population trend in any single sub-region can not have declined by more than 50 percent; and (4) all five listing factors are addressed.

The eastern DPS of Steller sea lion may be delisted when all of the following have been met: (1) The population has increased at an average rate of three percent per year for 30 years (i.e., three generations); (2) the population ecology and vital rates are consistent with the observed trend; and (4) all five listing factors are addressed.

Time and costs for recovery actions for the western DPS are estimated at $93,840,000 for the first 5 fiscal years and $430,425,000 for full recovery. The recovery program for the eastern DPS will cost an estimated $150,000 for the first year and $1,050,000 total, including 10 years of post-delisting monitoring.

Public Comments Solicited

NMFS solicits written comments on the draft Revised Recovery Plan. All substantive comments received by the date specified above will be considered prior to final approval of the Plan.

Authority: Section 4(f) of the ESA (16 U.S.C. 1531 et seq.).

Dated: May 16, 2007.
Angela Somma,
Chief, Endangered Species Division, Office of Protected Resources, National Marine Fisheries Service.

[FR Doc. E7-9755 Filed 5-18-07; 8:45 am]

BILLING CODE 3510-22-S